DEPARTMENT OF HOUSING AND URBAN DEVELOPMENT

[Docket No. FR-6381-N-01]

Improving Access to Public Benefit Programs; Request for Comment

AGENCY: Office of Policy Development and Research, Department of Housing and Urban Development, HUD.

ACTION: Request for comments.

SUMMARY: The Department of Housing and Urban Development is seeking comments from the public regarding the burden faced when applying for or maintaining eligibility for HUD's housing programs. HUD recognizes that these administrative hurdles and paperwork burdens disproportionately fall on the most vulnerable populations and prevent individuals and entities from accessing benefits for which they are legally eligible. Public comment submitted in response to this request for comment will assist HUD in better understanding, identifying, and reducing HUD's public program administrative burden and ultimately further its mission to pursue transformative housing and community-building policies and programs.

DATES: Comment Due Date: August 14, 2023.

ADDRESSES: Interested persons are invited to submit comments responsive to this request for comment. There are three methods for submitting public comments. All submissions must refer to the above docket number and title.

1. Electronic Submission of Comments. Comments may be submitted electronically through the Federal eRulemaking Portal at www.regulations.gov. HUD strongly encourages commenters to submit comments electronically through www.regulations.gov. Electronic submission of comments allows the commenter maximum time to prepare and submit a comment, ensures timely receipt by HUD, and enables HUD to make comments immediately available to the public. Comments submitted electronically through www.regulations.gov can be viewed by other commenters and interested members of the public. Commenters should follow the instructions provided on that website to submit comments electronically.

2. Submission of Comments by Mail. Comments may be submitted by mail to the Regulations Division, Office of General Counsel, Department of Housing and Urban Development, 451 7th Street SW, Room 10276, Washington, DC 20410-0500.

3. Submission of Comments by Electronic Mail. Comments may be submitted by electronic mail to the Regulations Division, Office of General Counsel, Department of Housing and Urban Development at improvingaccesstopublicbenefitprograms@hud.gov.

Note: To receive consideration as a public comment, comments must be submitted through one of the three methods specified above.

Public Inspection of Public Comments. Copies of all comments submitted will be available for inspection and downloading at www.regulations.gov. HUD will also make all properly submitted comments and communications available for public inspection and copying during regular business hours at the above address. Due to security measures at the HUD Headquarters building, you must schedule an appointment in advance to review the public comments by calling the Regulations Division at 202-708-3055 (this is not a toll-free number). HUD welcomes and is prepared to receive calls from individuals who are deaf or hard of hearing, as well as individuals with speech or communication disabilities. To learn more about how to make an accessible telephone call, please visit https://www.fcc.gov/consumers/guides/telecommunications-relay-service-trs. Copies of all comments submitted are available for inspection and downloading at www.regulations.gov.

FOR FURTHER INFORMATION CONTACT: Todd Richardson, General Deputy Assistant Secretary, Office of Policy Development and Research, Department of Housing and Urban Development, 451 7th Street SW, Room 8100, Washington, DC 20410, telephone 202-402-5706 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

I. Background

Applying for and maintaining eligibility for public benefits and services, including housing programs, often requires completing and submitting a variety of forms. HUD and its housing partners that administer its programs (including Public Housing Authorities, State and local governments, non-profit recipients of CDBG programs, Multifamily Housing owners, and FHA lenders) use the information collected by these forms to determine whether applicants are eligible or if current recipients continue to be eligible. These forms and other methods of information collections may create burdens that disproportionately fall on the most vulnerable populations and prevent individuals and entities from accessing services for which they are legally eligible. These burdens include the expenditure of time, effort, or financial resources to generate, maintain, or provide information to HUD or its housing partners. For example, individuals may be required to provide a list of family members, the family's total annual family income, the assets available to each family member in the household, and the value of such assets in order to access public housing. Individuals applying for or maintaining eligibility for public benefits or services may also face burdens such as time spent gathering records and documentation needed to prove eligibility, travel time associated with developing and submitting the collection, or even time waiting to speak with agency personnel.

Consistent with the Paperwork Reduction Act of 1995 (PRA),¹ agencies must ensure that both the quantitative burden estimates and the narrative description supporting its information collection requests reflect the beginning-to-end experience of completing the information collection activity. Specifically, the burden faced by individuals applying for and maintaining eligibility for public benefits should also include:

¹ Public Law 104-13 (1995) (codified at 44 U.S.C. 3501-3520).

—Information and learning costs, which refer to the time, effort, money, and other resources that individuals need to expend to learn about the existence of a public service or benefit, rules governing their eligibility and application, certification, benefits maintenance, and post-award reporting or recertification processes.

—Compliance costs, which refer to the time, effort, money, and other resources that individuals need to expend to follow through with program application, certification, or recertification, including filling out necessary paperwork, waiting for correspondence from program agencies, planning for in-person meetings, and producing documentation to confirm their eligibility (for instance, records of household composition, income, or assets).

—Psychological costs, which refer to the cognitive load, discomfort, stress, anxiety, distrust, or loss of autonomy or dignity that individuals may experience as a result of attempting to access a public benefit or service.

—Redemption costs, which refer to the time, effort, money, and other resources that individuals need to expend to use public benefits or services where beneficiaries or participants must navigate third-party agents or vendors.

Every step in applying for or maintaining eligibility for public benefits represents a burden that could result in individuals or entities justifiably becoming too discouraged to complete the process and thus not receiving public benefits for which they are legally eligible.

II. Improving Access to Public Benefits Programs Through the Paperwork Reduction Act (OMB M-22-10)

On April 13, 2022, OMB issued a memorandum entitled, “Improving Access to Public Benefits Programs Through the Paperwork Reduction Act” (OMB M-22-10),² to assist Federal agencies to, among other things, reduce administrative burdens on individuals when accessing public benefits programs.³ OMB M-22-10 discusses how the process of understanding, completing, and submitting forms associated with public benefits can impose burdens on potential beneficiaries “that could result in individuals or entities justifiably becoming too discouraged to complete the process and thus not receiving public benefits for which they are legally eligible.” OMB M-22-10 recognizes that burdens that seem minor when designing and implementing a program can have substantial negative effects for individuals already facing scarcity.⁴

² Available at https://www.whitehouse.gov/wp-content/uploads/2022/04/M-22-10.pdf.

³ As used in OMB M-22-10, “public benefits programs” is construed widely to include social welfare programs; social insurance programs; tax credits; and other cash, loan, or in-kind assistance, particularly those intended to support in-need individuals or communities.

⁴ See, e.g., Office of Management and Budget, Study to Identify Methods to Assess Equity: Report to the President (July 2021), available at https://www.whitehouse.gov/wp-content/uploads/2021/08/OMB-Report-on-E013985-Implementation_508-Compliant-Secure-v1.1.pdf.

Through Federal agencies' PRA processes, OMB M-22-10 encourages agencies to (1) more completely and transparently articulate burdens experienced by the public when accessing public benefits programs and (2) use that analysis to minimize Federal information collection burdens, with particular emphasis on those individuals and entities most adversely affected by these burdens, particularly for historically underserved communities. OMB M-22-10 also calls on Federal agencies to emphasize systematic, rather than one-off, public program administrative burden reduction initiatives, including reviewing if every burden identified in an information collection request is strictly necessary under the relevant authorizing statute or program implementation regulation.

III. Purpose of This Request for Comment

HUD's overarching goal is to pursue transformative housing and community-building policy and programs. To accomplish this goal and continue its efforts to reduce administrative burden, improve the customer experience for individuals seeking and receiving HUD services, and actively solicit input of program beneficiaries, HUD is soliciting comment to better understand, identify, and reduce the public program administrative burdens imposed through HUD's forms and other information collections that are experienced by members of the public who are entitled to benefits through one or more HUD public benefits programs.⁵ While certain HUD programs impose administrative burdens directly from HUD onto members of the public, much of HUD's work involves providing funding to State, local, or Tribal governments, grant recipients, nonprofits, businesses, or other entities that then provide a benefit to eligible members of the public through a program or service, often with the requirement that information be collected to satisfy HUD program compliance requirements in addition to their own and those of other Federal agencies. Given that HUD commonly provides funding for benefits but does not directly administer the programs or services to the public, HUD also invites public input relating to how HUD can reduce its program compliance information collection requirements for administrators of HUD funding, as well as how HUD might encourage administrators of HUD-funded programs or services to reduce their own public program administrative burden. HUD's specific questions regarding better understanding, identifying, and reducing public program administrative burdens are provided in the following section.

⁵ As used in this request for comment, “HUD public benefits programs” refers generally to any HUD program or service that benefits eligible members of the public.

IV. Specific Information Requested

While HUD welcomes all comments relevant to better understanding, identifying, and reducing the public program administrative burdens relating to HUD public benefits programs, HUD is particularly interested in receiving input on the questions listed below. To assist commenters, HUD provides the following guidance:

What do we mean by “form”?

When we ask the questions about “forms” we mean both paper forms as well as online or electronic forms such as web applications. This includes situations where you may verbally provide your responses instead of physically completing a form, such as through an in-person or phone-based interview. HUD is interested in forms produced directly by HUD as well as forms that are created by HUD program administrators (e.g., Public Housing Authorities, State and local governments, non-profit recipients of CDBG and CDBG-DR programs, Multifamily Housing owners, FHA lenders, Continuums of Care) that are, at least in part, implementing HUD requirements.

What types of experiences with forms are we interested in learning about and what is helpful information to provide?

HUD is interested in hearing about your experiences related to applying for or accessing HUD programs and services as well as experiences related to maintaining eligibility for those services, which might include activities like ongoing reporting requirements or recertification activities. While HUD is interested in input from all commenters, comments from organizations that provide direct assistance to individuals navigating application, reporting, and recertification processes, as well as individuals' direct experience completing and submitting forms, may be particularly helpful in identifying both unduly burdensome processes as well as opportunities for mitigating those burdens.

HUD is interested in understanding circumstances regarding burdens associated with completing or submitting a form or set of forms as well as suggestions for where there are opportunities for improving the form or experience by improving the requirements, phrasing, design, or associated processes with the form. To your best ability, please describe in detail what makes specific forms burdensome or difficult to you, your organization, or your organization's clients. If you are able, please identify the name of the form, the form number, or provide a link to where the form is hosted.

When providing comments, please indicate the specific question number to which you are responding.

1. How can HUD reduce its public program administrative burden across HUD's public benefits programs? Specifically, is there information currently being collected by HUD or HUD program administrators (e.g., Public Housing Authorities, State and local governments, non-profit recipients of CDBG programs, Multifamily Housing owners, FHA lenders) that have no apparent use or benefit or can be streamlined? Additional prompts commenters' may wish to consider when developing their response to this question:

a. Are there eligibility requirements or questions on a form for a specific benefit or program that are particularly difficult to understand, respond to effectively, demonstrate initial compliance with, or maintain compliance with?

b. Does the form include documentation requirements that could be made simpler, less frequent, or more helpful or flexible to meet the ability of respondents to gather the documentation?

c. Does completing the form involve multiple touchpoints with either agency or third-party personnel, such as through calls to help lines, in-person visits or consultations, or solicitation of help from other non-profit, legal aid, private legal counsel, or social service agencies?

d. Are there significant discrepancies in how certain forms are implemented across States, localities, housing authorities, or other HUD program administrators responsible for collecting this information? Could HUD provide more standardized or template form or web application tools to reduce the need for non-Federal program administrators to develop their own forms or web applications?

e. Are there specific challenges that persons with physical, speech, other communication-related, or other disabilities face in these processes that HUD should further address? What strategies or tools might succeed in reducing burden for these groups?

f. Are there specific challenges that persons with limited English proficiency (LEP) face in these processes that HUD should further address? What strategies or tools might succeed in reducing burden for these groups?

g. What specific challenges or barriers are experienced by other vulnerable sub-populations that may prevent individuals and entities from accessing benefits for which they are eligible? What strategies or tools might succeed in reducing burden for these groups?

2. Are there data currently collected by HUD or HUD program administrators that could be shared with other agencies or program administrators to reduce the information collection burden of those programs? Are there data currently collected by other programs or agencies that if shared with HUD or HUD's program administrators could reduce the information collection burden of HUD's programs? When responding, please be specific about HUD and other agency programs, including the form(s) used by HUD or the other agency and the specific data collected that could be leveraged.

3. Are there data collected by HUD that are not currently aggregated and shared publicly that should be aggregated and shared publicly to increase the value of those data being collected? Please be specific about which data, the form number on which it is collected, and how HUD might aggregate the data to be useful for the public.

4. How can HUD use artificial intelligence, machine learning, or other advanced data science tools to automate, augment, or otherwise streamline its various information collections and the processes they support? Please identify which collections or processes could be improved using these tools; how advanced data science tools could help to complete these forms or processes more quickly and without sacrificing accuracy or security or perpetuating bias against certain populations; and any estimated time or cost savings that could result from these improvements. Potential responses could include but are not limited to processes related to development approval, processing of multifamily mortgage insurance applications, and reviews of applications submitted in response to notices of funding opportunities.

5. Please provide any other input relating to how HUD can better understand, identify, and reduce the public program administrative burden associated with HUD's public benefits programs, including how HUD might better use technology to support data collection and data sharing.

Todd Richardson,
General Deputy Assistant Secretary, Office of Policy Development and Research.

[FR Doc. 2023-14634 Filed 7-12-23; 8:45 am]

BILLING CODE 4210-67-P